NATIONAL SCIENCE FOUNDATION

Advisory Committee for Social, Behavioral and Economic Sciences; Notice of Meeting

In accordance with Federal Advisory Committee Act (Pub. L. 92-463, as amended), the National Science Foundation announces the following meeting:

Name: Advisory Committee for Social, Behavioral and Economic Sciences (#1171)

Date/Time: November 3, 2011; 1 p.m. to 5:30 p.m. November 4, 2011; 8:45 a.m. to 4 p.m.

Place: National Science Foundation, 4201 Wilson Boulevard, Stafford II, Room 595, Arlington, VA 22230.

Type of Meeting: Open.

Contact Person: Ms. Lisa Jones, Office of the Assistant Director, Directorate for Social, Behavioral and Economic Sciences, National Science Foundation, 4201 Wilson Boulevard, Room 905, Arlington, Virginia 22230, 703-292-8700.

Summary of Minutes: May be obtained from contact person listed above.

Purpose of Meeting: To provide advice and recommendations to the National Science Foundation on major goals and policies pertaining to Social, Behavioral and Economic Sciences Directorate programs and activities.

Agenda

Thursday, November 3, 2011

Updates and discussions on continuing activities

• Budget priorities for FY 2012

• New Staff

• New Directions in the Directorate for Education and Human Resources

• Interdisciplinary Training in SBE Science

Friday, November 4, 2011

Discussion With NSF Director and Deputy Director

Overview and Discussion

• National Center for Science and Engineering Statistics (NCSES) Update

• Strategic Plan for the Division of Behavioral and Cognitive Science

• SBE-Supported Surveys and Infrastructure

• Future membership of the Advisory Committee

Dated: October 17, 2011.
Susanne Bolton,
Committee Management Officer.

[FR Doc. 2011-27143 Filed 10-19-11; 8:45 am]

BILLING CODE 7555-01-P